DEPARTMENT OF HOMELAND SECURITY

Federal Emergency Management Agency

[Docket ID FEMA-2014-0022]

Technical Mapping Advisory Council

AGENCY: Federal Emergency Management Agency, DHS.

ACTION: Committee Management; Notice of Federal Advisory Committee Meeting.

SUMMARY: The Federal Emergency Management Agency (FEMA) Technical Mapping Advisory Council (TMAC) will meet in person on March 22-23, 2017 in Arlington, Virginia. The meeting will be open to the public.

DATES: The TMAC will meet on Wednesday, March 22, 2017 from 8:00 a.m.-5:30 p.m. Eastern Daylight Time (EDT), and Thursday, March 23, 2017 from 8:00 a.m.-5:30 p.m. EDT. Please note that the meeting will close early if the TMAC has completed its business.

ADDRESSES: The meeting will be held at 3101 Wilson Boulevard, Arlington, Virginia, 22201. Members of the public who wish to attend the meeting must register in advance by sending an email to FEMA-TMAC@fema.dhs.gov (Attention: Mark Crowell) by 11:00 p.m. EDT on Wednesday, March 15, 2017. Members of the public must check in at the front desk on the ninth floor of 3101 Wilson Boulevard, Arlington, Virginia, 22201 and photo identification is required. For information on facilities or services for individuals with disabilities or to request special assistance at the meeting, contact the person listed in For Further Information Contact below as soon as possible.

To facilitate public participation, members of the public are invited to provide written comments on the issues to be considered by the TMAC, as listed in the Supplementary Information section below. Associated meeting materials will be available at www.fema.gov/TMAC for review by Wednesday, March 15, 2017. Written comments to be considered by the committee at the time of the meeting must be submitted and received by Friday, March 17, 2017, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact detail in the body of the email.

• Mail: Regulatory Affairs Division, Office of Chief Counsel, FEMA, 500 C Street SW., Room 8NE, Washington, DC 20472-3100.

Instructions: All submissions received must include the words “Federal Emergency Management Agency” and the docket number for this action. Comments received will be posted without alteration at http://www.regulations.gov, including any personal information provided. Docket: For docket access to read background documents or comments received by the TMAC, go to http://www.regulations.gov and search for the Docket ID FEMA-2014-0022.

A public comment period will be held on Wednesday, March 22, 2017, from 4:00 p.m. to 4:30 p.m. EDT and again on Thursday, March 23, 2017, from 11:30 a.m. to 12:00 p.m. EDT. Speakers are requested to limit their comments to no more than three minutes. The public comment period will not exceed 30 minutes. Please note that the public comment period may end before the time indicated, following the last call for comments. Contact the individual listed below to register as a speaker by close of business on Friday, March 17, 2017.

FOR FURTHER INFORMATION CONTACT: Mark Crowell, Designated Federal Officer for the TMAC, FEMA, 400 C Street SW., Washington, DC 20024, telephone (202) 646-3432, and email mark.crowell@fema.dhs.gov. The TMAC Web site is: http://www.fema.gov/TMAC.

SUPPLEMENTARY INFORMATION: Notice of this meeting is given under the Federal Advisory Committee Act, 5 U.S.C. Appendix.

As required by the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: During the two-day meeting, TMAC members will discuss the topics identified for TMAC focus and attention in 2017. This will include receiving applicable briefings from subject matter experts. The tasks required to complete the TMAC 2017 Annual Report will be divided and assigned to various TMAC subcommittees. A brief public comment period will take place each day during the meeting and will occur prior to any vote. The full agenda and related briefing materials will be posted for review by March 17, 2017 at http://www.fema.gov/TMAC.

Dated: February 17, 2017.
Roy E. Wright,
Deputy Associate Administrator for Insurance and Mitigation, Federal Emergency Management Agency.

[FR Doc. 2017-04234 Filed 3-3-17; 8:45 am]

BILLING CODE 9110-12-P